DEPARTMENT OF THE TREASURY

Office of Foreign Assets Control

Sanctions Actions Pursuant to Executive Orders

AGENCY: Office of Foreign Assets Control, Department of the Treasury.

ACTION: Notice.

SUMMARY: The U.S. Department of the Treasury's Office of Foreign Assets Control (OFAC) is publishing the names of persons whose property and interests in property are blocked pursuant to the following authorities: Executive Order (E.O.) 13660, E.O. 13661, and E.O. 13685, or who are subject to the prohibitions of one or more directives under E.O. 13662.

DATES: OFAC's actions described in this notice were effective on June 20, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available on OFAC's Web site at http://www.treasury.gov/ofac. A complete listing of persons determined to be subject to one or more directives under E.O. 13662, as discussed in detail in this Notice, can be found in the Sectoral Sanctions Identifications List at http://Start Printed Page 95304www.treasury.gov/resource-center/sanctions/SDN-List/Pages/ssi_list.aspx.

Notice of OFAC Actions

On June 20, 2017, OFAC blocked the property and interests in property of the following persons pursuant to E.O. 13660, “Blocking Property of Certain Persons Contributing to the Situation in Ukraine”:

1. MURATOV, Aleksey (a.k.a. MURATOV, Aleksey Valentinovich (Cyrillic: МУРАТОВ, Алексей Валентинович); a.k.a. MURATOV, Alexei), Moscow, Russia; Donetsk, Ukraine; DOB 17 Feb 1978; Gender Male (individual) [UKRAINE-EO13660].

2. BULGAKOV, Vadim Viktorovich, Crimea, Ukraine; DOB 30 Jan 1969; POB Simferopol, Crimea, Ukraine; Gender Male (individual) [UKRAINE-EO13660].

3. KHORSHEVA, Natalya Ivanovna (a.k.a. KHORSHEVA, Nataliya; a.k.a. KHORSHEVA, Natalya), Luhansk, Ukraine; DOB 14 Jul 1972; Gender Female (individual) [UKRAINE-EO13660].

4. JAROSH, Petr Grigorievich (a.k.a. YAROSH, Petro; a.k.a. YAROSH, Pyotr), Crimea, Ukraine; DOB 30 Jan 1971; POB Skvortsovo village, Simferopol region, Crimea, Ukraine; Gender Male (individual) [UKRAINE-EO13660].

5. KOSTRUBITSKY, Aleksey Aleksandrovich (a.k.a. KOSTRUBITSKIJ, Aleksej Aleksandrovich; a.k.a. KOSTRUBITSKY, Alexei; a.k.a. KOSTRUBITSKY, Olexiy Oleksandrovych; a.k.a. KOSTRUBYTSKYY, Oleksiy), in/h A-0050, Donetsk, Ukraine; DOB 24 Aug 1978; POB Russia; Gender Male (individual) [UKRAINE-EO13660].

6. DIKIY, Aleksey Aleksandrovich (a.k.a. DIKIJ, Aleksej Aleksandrovich; a.k.a. DIKIY, Olexiy Oleksandrovych; a.k.a. DYKYY, Oleksiy), Donetsk, Ukraine; DOB 05 Jul 1974; Gender Male (individual) [UKRAINE-EO13660].

7. NIKITINA, Irina (a.k.a. NIKITINA, Irina Petrovna; a.k.a. NIKITINA, Iryna Petrivna), Ukraine; DOB 17 May 1968; Gender Female (individual) [UKRAINE-EO13660].

8. KAMSHILOV, Oleg Anatolievich, Crimea, Ukraine; DOB 1969; POB Piketnoy Marjanovsky District, Omsk Region, Russia; nationality Russia; Gender Male (individual) [UKRAINE-EO13660].

9. KORNET, Igor Aleksandrovich (a.k.a. KORNET, Igor; a.k.a. KORNET, Ihor), Luhansk, Ukraine; DOB 29 Apr 1973; Gender Male (individual) [UKRAINE-EO13660].

10. MELNIKOV, Andrei (a.k.a. MELNIKOV, Andrey; a.k.a. MELNIKOV, Andrey Gennadevich; a.k.a. MELNIKOVA, Andreya Gennadevicha), 13 pr., Simferopol, Crimea, Ukraine; DOB 03 Sep 1969; Email Address me@rk.gov.ru; Gender Male (individual) [UKRAINE-EO13660].

11. PASECHNIK, Leonid Ivanovich (a.k.a. PASECHNYK, Leonid; a.k.a. PASICHNYK, Leonid), Ukraine; DOB 15 Mar 1970; Gender Male (individual) [UKRAINE-EO13660].

12. NIKULOV, Gennadii Anatolievich (a.k.a. NIKULOV, Gennady A.), Russia; DOB 17 Feb 1967; nationality Russia (individual) [UKRAINE-EO13660].

13. RYAUZOV, Denis Yuryevich (a.k.a. JURJEVICH, Ryauzov Denis; a.k.a. RJAUZOW, Denis; a.k.a. RYAUZOV, Denis; a.k.a. RYAUZOW, Denis), Russia; DOB 23 May 1974; POB Omsk, Siberia, Russia; nationality Russia (individual) [UKRAINE-EO13660].

14. UTKIN, Dmitriy Valeryevich, Russia; DOB 1970; POB Ukraine; Gender Male (individual) [UKRAINE-EO13660] (Linked To: PRIVATE MILITARY COMPANY `WAGNER').

15. NAZAROV, Sergey Makarovich, Russia; DOB 27 Jul 1961; POB Kizel, Russia; Gender Male; Deputy Minister of Economic Development of the Russian Federation (individual) [UKRAINE-EO13660] [UKRAINE-EO13661].

16. CENTRAL REPUBLIC BANK (a.k.a. CENTRAL NATIONAL BANK OF THE DONETSK PEOPLE'S REPUBLIC), Prospekt Mira 8a, Donetsk 83015, Ukraine; Web site www.crb-dnr.ru; Email Address bank@crb-dnr.ru [UKRAINE-EO13660].

17. STATE BANK LUHANSK PEOPLE'S REPUBLIC, Str. T. G. Shevchenko, d. 1, Luhansk 91000, Ukraine; Web site www.gosbank.su; Email Address bank@gosbank.su [UKRAINE-EO13660].

18. TSMRBANK, OOO (a.k.a. BANK `CENTER FOR INTERNATIONAL SETTLEMENTS' LLC; a.k.a. BANK `TSENTR MEZHDUNARODNYKH RASCHETOV' OBSHCHESTVO S OGRANICHENNOI OTVETSTVENNOSTYU; a.k.a. LLC TSMRBANK), ul. Palikha, d. 10, Str. 7, Moscow 127055, Russia; Web site www.nko-cmr.ru; Email Address cmr@cmrbank.ru; BIK (RU) 044525059; Registration ID 1157700005759 (Russia); Tax ID No. 7750056670 (Russia); Government Gazette Number 45000256 (Russia) [UKRAINE-EO13660].

19. BIKE CENTER (a.k.a. BAIK. V. TSENTR; a.k.a. BAIK. V. TSENTR, OOO; a.k.a. BIKE V. CENTER), Nizhnije Mnevniki, 110, Moscow, Russia; ul. Nikitskaya B. D.11/4, korp. 3, Moscow 103009, Russia; 1 ¼, str.3 ul. Nikitskaya B., Moscow 103009, Russia; Trade License No. 1037739620390 (Russia); Government Gazette Number 54842899 (Russia) [UKRAINE-EO13660].

20. ‘WOLF’ HOLDING OF SECURITY STRUCTURES (a.k.a. DEFENSE HOLDING STRUCTURE `WOLF'; a.k.a. HOLDING SECURITY STRUCTURE WOLF; a.k.a. KHOLDING OKHRANNYKH STRUKTUR VOLK; a.k.a. WOLF HOLDING COMPANY), ul. Panferova d. 18, Moscow 119261, Russia; Nizhniye Mnevniki, 110, Moscow, Russia; Tax ID No. 7736640919 (Russia) [UKRAINE-EO13660].

21. PRIVATE MILITARY COMPANY ‘WAGNER’ (a.k.a. CHASTNAYA VOENNAYA KOMPANIYA `VAGNER'; a.k.a. CHVK VAGNER; a.k.a. PMC WAGNER), Russia [UKRAINE-EO13660].

On June 20, 2017, OFAC determined that AK Transneft OAO owns, directly or indirectly, a 50 percent or greater interest in the entities listed below. As a result of such ownership, these entities are subject to the prohibitions of Directive 2 (as amended) of September 12, 2014, issued pursuant to E.O. 13662, “Blocking Property of Additional Persons Contributing to the Situation in Ukraine” and 31 CFR 589.406 and 589.802, and following the Secretary of the Treasury's determination of July 16, 2014 pursuant to section l(a)(i) of E.O. 13662 with respect to the energy sector of the Russian Federation economy.

1. CHERNOMORTRANSNEFT, AO (a.k.a. AKTSIONERNOE OBSHCHESTVO `CHERNOMORSKIE MAGISTRALNYE NEFTEPROVODY'; a.k.a. JSC ‘CHERNOMORTRANSNEFT’; a.k.a. OPEN JOINT-STOCK COMPANY `BLACK SEA OIL TRUNK PIPELINES'), ul. Sheskharis, Novorossisk, Krasnodarski Kr. 353911, Russia; Web site www.nvr.transneft.ru; Email Address fogela@nvr.transneft.ru; Executive Order 13662 Directive Determination—Subject to Directive 2; Registration ID 1022302384136 (Russia); Tax ID No. 2315072242 (Russia); Government Gazette Number 00139011 (Russia); For more information on directives, please visit the following link: http://www.treasury.gov/resource-center/sanctions/Programs/Pages/ukraine.aspx#directives [UKRAINE-EO13662] (Linked To: AK TRANSNEFT OAO).

2. DSD, OOO (a.k.a. LIMITED LIABILITY COMPANY `FAR EAST CONSTRUCTION DIRECTION'; a.k.a. OBSHCHESTVO S OGRANICHENNOI OTVETSTVENNOSTYU `DALNEVOSTOCHNAYA STROITELNAYA DIREKTSIYA'; a.k.a. “LLC `DSD' ”), 163 ul. Volochaevskaya, Khabarovsk, Khabarovski Kr. 680000, Russia; Web site dsdvsto.ru; Email Address dsd-it@dsd.transneft.ru; Executive Order 13662 Directive Determination—Subject to Directive 2; Registration ID 1092724004581 (Russia); Government Gazette Number 60668690 (Russia); For more information on directives, please visit the following link: http://www.treasury.gov/resource-center/sanctions/Programs/Pages/ukraine.aspx#directives [UKRAINE-EO13662] (Linked To: AK TRANSNEFT OAO).

3. GIPROTRUBOPROVOD, AO (a.k.a. AKTSIONERNOE OBSHCHESTVO `INSTITUT PO PROEKTIROVANIYU MAGISTRALNYKH TRUBOPROVODOV'; a.k.a. OJSC `GIPROTRUBOPROVOD'; a.k.a. OPEN JOINT-STOCK COMPANY `INSTITUTE ON PLANNING OF OIL TRUNK PIPELINES'), d. 24 korp. 1 ul. Vavilova, Moscow 119334, Russia; Web site www.gtp.transneft.ru; Email Address agafontsevaa@gtp.transneft.ru; Executive Order 13662 Directive Determination—Subject to Directive 2; Registration ID 1027700002660 (Russia); Tax ID No. 7710022410 (Russia); Government Gazette Number 00148406 (Russia); For more information on directives, please visit the following link: http://www.treasury.gov/resource-center/sanctions/Programs/Pages/ukraine.aspx#directives [UKRAINE-EO13662] (Linked To: AK TRANSNEFT OAO).

4. NPF TRANSNEFT, AO (a.k.a. AKTSIONERNOE OBSHCHESTVO `NEGOSUDARSTVENNY PENSIONNY FOND 'TRANSNEFT'), d. 5/7 str. 2, 3 ul. Shchipok, Moscow 115054, Russia; Web site npf-transneft.ru; Email Address mail@npf-transneft.ru; Executive Order 13662 Directive Determination—Subject to Directive 2; Registration ID 1157700011017 (Russia); Tax ID No. 9705044356 (Russia); Government Gazette Number 54769346 (Russia); For more information on directives, please visit the following link: http://www.treasury.gov/resource-center/sanctions/Programs/Pages/ukraine.aspx#directives [UKRAINE-EO13662] (Linked To: AK TRANSNEFT OAO).

5. SVYAZTRANSNEFT, AO (a.k.a. AKTSIONERNOE OBSHCHESTVO `SVYAZ OBEKTOV TRANSPORTA I DOBYCHI NEFTI'; a.k.a. JSC `SVYAZTRANSNEFT'; a.k.a. OPEN JOINT-STOCK COMPANY `COMMUNICATION OF THE OBJECTS OF OIL TRANSPORTATION AND EXTRACTION'), 12 ul. Nametkina, Moscow 117420, Russia; Web site www.oilnet.ru; Executive Order 13662 Directive Determination—Subject to Directive 2; Registration ID 1027739420961 (Russia); Tax ID No. 7723011906 (Russia); Government Gazette Number 00140058 (Russia); For more information on directives, please visit the following link: http://www.treasury.gov/resource-center/sanctions/Programs/Pages/ukraine.aspx#directives [UKRAINE-EO13662] (Linked To: AK TRANSNEFT OAO).

6. TRANSNEFT FINANS, OOO (a.k.a. LIMITED LIABILITY COMPANY `TRANSNEFT FINANS'; a.k.a. OBSHCHESTVO S OGRANICHENNOI OTVETSTVENNOSTYU `TRANSNEFT FINANS'; a.k.a. TRANSNEFT FINANCE LIMITED), d. 24 korp. 1 ul. Vavilova, Moscow 119334, Russia; Web site transneftfinance.ru; Email Address sobolevmi@tnf.transneft.ru; Executive Order 13662 Directive Determination—Subject to Directive 2; Registration ID 1067746400622 (Russia); Tax ID No. 7736536770 (Russia); Government Gazette Number 94473510 (Russia); For more information on directives, please visit the following link: http://www.treasury.gov/resource-center/sanctions/Programs/Pages/ukraine.aspx#directives [UKRAINE-EO13662] (Linked To: AK TRANSNEFT OAO).

7. TRANSNEFT-DIASKAN, AO (a.k.a. AKTSIONERNOE OBSHCHESTVO `TRANSNEFT—DIASKAN'; a.k.a. JSC `TRANSNEFT-DIASCAN'; a.k.a. JSC CTD `DIASKAN'; a.k.a. OPEN JOINT-STOCK COMPANY `CENTRE OF TECHNICAL DIAGNOSTICS'), 7 ul. Kuibysheva, Lukhovitsy, Raion Moskovskaya Obl. 140501, Russia; Web site www.diascan.ru; Email Address korotkovaa@ctd.transneft.ru; Executive Order 13662 Directive Determination—Subject to Directive 2; Registration ID 1025007389527 (Russia); Tax ID No. 5072703668 (Russia); Government Gazette Number 18024722 (Russia); For more information on directives, please visit the following link: http://www.treasury.gov/resource-center/sanctions/Programs/Pages/ukraine.aspx#directives [UKRAINE-EO13662] (Linked To: AK TRANSNEFT OAO).

8. TRANSNEFT-DRUZHBA, AO (a.k.a. AKTSIONERNOE OBSHCHESTVO `TRANSNEFT—DRUZHBA'; a.k.a. JSC `DRUZHBA'; a.k.a. OPEN JOINT-STOCK COMPANY “OIL TRUNK PIPELINES `DRUZHBA' ”), d. 113 ul. Uralskaya, Bryansk, Bryanskaya Obl. 241020, Russia; Web site www.druzhbamn.ru; Email Address androsovaeg@brn.transneft.ru; Executive Order 13662 Directive Determination—Subject to Directive 2; Registration ID 1023202736754 (Russia); Tax ID No. 3235002178 (Russia); Government Gazette Number 10453441 (Russia); For more information on directives, please visit the following link: http://www.treasury.gov/resource-center/sanctions/Programs/Pages/ukraine.aspx#directives [UKRAINE-EO13662] (Linked To: AK TRANSNEFT OAO).

9. TRANSNEFTEPRODUKT, PAO (f.k.a. AKTSIONERNOE OBSHCHESTVO AKTSIONERNAYA KOMPANIYA TRUBOPROVODNOGO TRANSPORTA NEFTEPRODUKTOV TRANSNEFTEPRODUKT; a.k.a. AKTSIONERNOE OBSHCHESTVO `TRANSNEFTEPRODUKT'; a.k.a. JSC `TRANSNEFTEPRODUKT'; a.k.a. OPEN JOINT-STOCK COMPANY `TRANSNEFTEPRODUKT'; a.k.a. TRANSNEFTEPRODUCT JOINT-STOCK CO), 8A prospekt Vernadskogo, Moscow 119311, Russia; Email Address nurymbetovage@ak.aktnp.ru; Executive Order 13662 Directive Determination—Subject to Directive 2; Registration ID 1027700054140 (Russia); Tax ID No. 7709027196 (Russia); Government Gazette Number 00044474 (Russia); For more information on directives, please visit the following link: http://www.treasury.gov/resource-center/sanctions/Programs/Pages/ukraine.aspx#directives [UKRAINE-EO13662] (Linked To: AK TRANSNEFT OAO).

10. TRANSNEFT-MEDIA, OOO (a.k.a. LIMITED LIABILITY COMPANY `TRANSPRESS'; a.k.a. LLC `TRANSPRESS'; a.k.a. OBSHCHESTVO S OGRANICHENNOI OTVETSTVENNOSTYU `TRANSNEFT-MEDIA'), d. 4 str.1 ul. Shchipok, Moscow 115093, Russia; Web site http://en.media.transneft.ru/; Email Address transpress.ttn@gmail.com; Executive Order 13662 Directive Determination—Subject to Directive 2; Registration ID 1027700276218 (Russia); Tax ID No. 7734019544 (Russia); Government Gazette Number 36559384 (Russia); For more information on directives, please visit the following link: http://www.treasury.gov/resource-center/sanctions/Programs/Pages/ukraine.aspx#directives [UKRAINE-EO13662] (Linked To: AK TRANSNEFT OAO).

11. TRANSNEFT-METROLOGIYA, AO (a.k.a. AKTSIONERNOE OBSHCHESTVO `TRANSNEFTMETROLOGIYA'; a.k.a. CJSC `CENTRE MO'; a.k.a. CLOSED JOINT-STOCK COMPANY `CENTRE OF METROLOGICAL PROVISION'), d. 16 korp. 1 ul. Dobrolyubova, Moscow 127254, Russia; Web site centermo.ru; Email Address chernyshovi@cmo.transneft.ru; Executive Order 13662 Directive Determination—Subject to Directive 2; Registration ID 1037739028491 (Russia); Tax ID No. 7723107453 (Russia); Government Gazette Number 42771562 (Russia); For more information on directives, please visit the following link: http://www.treasury.gov/resource-center/sanctions/Programs/Pages/ukraine.aspx#directives [UKRAINE-EO13662] (Linked To: AK TRANSNEFT OAO).

12. TRANSNEFT-OKHRANA, OOO (a.k.a. OBSHCHESTVO S OGRANICHENNOI OTVETSTVENNOSTYU `TRANSNEFT-OKHRANA'), d. 12 str. 2 ul. Nametkina, Moscow 117420, Russia; Email Address babaevii@tno.transneft.ru; Executive Order 13662 Directive Determination—Subject to Directive 2; Registration ID 1147746651898 (Russia); Tax ID No. 7728881149 (Russia); Government Gazette Number 16983393 (Russia); For more information on directives, please visit the following link: http://www.treasury.gov/resource-center/sanctions/Programs/Pages/ukraine.aspx#directives [UKRAINE-EO13662] (Linked To: AK TRANSNEFT OAO).

13. TRANSNEFT-PODVODSERVIS, AO (a.k.a. AKTSIONERNOE OBSHCHESTVO `TRANSNEFT-PODVODSERVIS'; a.k.a. JSC `VOLZHSKY PODVODNIK'; a.k.a. OPEN JOINT-STOCK COMPANY `VOLZHSKY PODVODNIK'), 19A ul. Larina, Nizhni Novgorod, Nizhegorodskaya Obl. 603152, Russia; Email Address alexandrovan@vp.transneft.ru; Executive Order 13662 Directive Determination—Subject to Directive 2; Registration ID 1025201982520 (Russia); Tax ID No. 5250000820 (Russia); Government Gazette Number 04884421 (Russia); For more information on directives, please visit the following link: http://www.treasury.gov/resource-center/sanctions/Programs/Pages/ukraine.aspx#directives [UKRAINE-EO13662] (Linked To: AK TRANSNEFT OAO).

14. TRANSNEFT-PRIKAME, AO (a.k.a. AKTSIONERNOE OBSHCHESTVO `TRANSNEFT—PRIKAME'; a.k.a. JSC `SZMN'; a.k.a. OPEN JOINT-STOCK COMPANY `NORTH-WESTERN OIL TRUNK PIPELINES'; a.k.a. TRANSNEFT-PRIKAMYE AO), 26A ul. Nikolaya Ershova, Kazan, Tatarstan Resp. 420061, Russia; Web site www.szmn.ru; Email Address hanovat@kaz.transneft.ru; Executive Order 13662 Directive Determination—Subject to Directive 2; Registration ID 1021601763820 (Russia); Tax ID No. 1645000340 (Russia); Government Gazette Number 00139264 (Russia); For more information on directives, please visit the following link: http://www.treasury.gov/resource-center/sanctions/Programs/Pages/ukraine.aspx#directives [UKRAINE-EO13662] (Linked To: AK TRANSNEFT OAO).

15. TRANSNEFT-PRIVOLGA, AO (a.k.a. AKTSIONERNOE OBSHCHESTVO `TRANSNEFT-PRIVOLGA'; a.k.a. JSC PRIVOLZHSKNEFTEPROVOD; a.k.a. OPEN JOINT-STOCK COMPANY `PRIVOLZHSK OIL TRUNK PIPELINES'), 100 ul. Leninskaya, Samara, Samarskaya Obl. 443020, Russia; Web site pmn.ru; Email Address ootorg@pmn.ru; Executive Order 13662 Directive Determination—Subject to Directive 2; Registration ID 1026301416371 (Russia); Tax ID No. 6317024749 (Russia); Government Gazette Number 00139117 (Russia); For more information on directives, please visit the following link: http://www.treasury.gov/resource-center/sanctions/Programs/Pages/ukraine.aspx#directives [UKRAINE-EO13662] (Linked To: AK TRANSNEFT OAO).

16. TRANSNEFT-SEVER, AO (a.k.a. AKTSIONERNOE OBSHCHESTVO `TRANSNEFT—SEVER'; a.k.a. OPEN JOINT-STOCK COMPANY `NORTH OIL TRUNK PIPELINES'; a.k.a. “JSC `SMN'”), 2/1 prospekt A.I.Zeryunova, Ukhta, Komi Resp. 169313, Russia; Web site www.severnyemn.ru; Email Address post@uht.transneft.ru; Executive Order 13662 Directive Determination—Subject to Directive 2; Registration ID 1021100730353 (Russia); Tax ID No. 1102016594 (Russia); Government Gazette Number 00139672 (Russia); For more information on directives, please visit the following link: http://www.treasury.gov/resource-center/sanctions/Programs/Pages/ukraine.aspx#directives [UKRAINE-EO13662] (Linked To: AK TRANSNEFT OAO).

17. TRANSNEFT-SIBIR, AO (a.k.a. AKTSIONERNOE OBSHCHESTVO `TRANSNEFT-SIBIR'; a.k.a. JSC SIBNEFTEPROVOD; a.k.a. OPEN JOINT-STOCK COMPANY `SIBNEFTEPROVOD'; a.k.a. TRANSNEFT SIBIRIA, JSC), 139 ul. Respubliki, Tyumen, Tyumenskaya Obl. 625048, Russia; Web site http://sibnefteprovod.transneft.ru; Email Address beschastnyhav@ueso.tmn.transneft.ru; Executive Order 13662 Directive Determination—Subject to Directive 2; Registration ID 1027200789220 (Russia); Tax ID No. 7201000726 (Russia); Government Gazette Number 00139229 (Russia); For more information on directives, please visit the following link: http://www.treasury.gov/resource-center/sanctions/Programs/Pages/ukraine.aspx#directives [UKRAINE-EO13662] (Linked To: AK TRANSNEFT OAO).

18. TRANSNEFT-TSENTRALNAYA SIBIR, AO (a.k.a. AKTSIONERNOE OBSHCHESTVO `TRANSNEFT—TSENTRALNAYA SIBIR'; a.k.a. JSC `TSENTRSIBNEFTEPROVOD'; a.k.a. OPEN JOINT-STOCK COMPANY `OIL TRUNK PIPELINES OF CENTRAL SIBERIA'), 24 ul. Naberezhnaya Reki Ushaiki, Tomsk, Tomskaya Obl. 634050, Russia; Web site csib.tomsk.ru; Email Address bagamanovmn@tom.transneft.ru; Executive Order 13662 Directive Determination—Subject to Directive 2; Registration ID 1027000867101 (Russia); Tax ID No. 7017004366 (Russia); Government Gazette Number 00139181 (Russia); For more information on directives, please visit the following link: http://www.treasury.gov/resource-center/sanctions/Programs/Pages/ukraine.aspx#directives [UKRAINE-EO13662] (Linked To: AK TRANSNEFT OAO).

19. TRANSNEFT-URAL, AO (a.k.a. AKTSIONERNOE OBSHCHESTVO `TRANSNEFT-URAL'; a.k.a. JSC `URALSIBNEFTEPROVOD'; a.k.a. OPEN JOINT-STOCK COMPANY `CHERNYAEV URAL-SIBERIAN OIL TRUNK PIPELINES'), 10 ul. Krupskoi, Ufa, Bashkortostan Resp. 450077, Russia; Web site www.usmn.ru; Email Address nekrasovaov@ufa.transneft.ru; Executive Order 13662 Directive Determination—Subject to Directive 2; Registration ID 1020203226230 (Russia); Tax ID No. 0278039018 (Russia); Government Gazette Number 00139608 (Russia); For more information on directives, please visit the following link: http://www.treasury.gov/resource-center/sanctions/Programs/Pages/ukraine.aspx#directives [UKRAINE-EO13662] (Linked To: AK TRANSNEFT OAO).

20. TSUP VSTO, OOO (a.k.a. LIMITED LIABILITY COMPANY `CENTRE OF MANAGEMENT OF THE PROJECT EASTERN SIBERIA-PACIFIC OCEAN'; a.k.a. LLC TSUP VSTO; a.k.a. OBSHCHESTVO S OGRANICHENNOI OTVETSTVENNOSTYU `TSENTR UPRAVLENIYA PROEKTOM `VOSTOCHNAYA SIBIR—TIKHI OKEAN'), 2-B ul. Gorkogo, Angarsk, Irkutskaya Obl. 665830, Russia; Web site cupvsto.ru; Executive Order 13662 Directive Determination—Subject to Directive 2; Registration ID 1053801124519 (Russia); Tax ID No. 3801079270 (Russia); Government Gazette Number 77642401 (Russia); For more information on directives, please visit the following link: http://www.treasury.gov/resource-center/sanctions/Programs/Pages/ukraine.aspx#directives [UKRAINE-EO13662] (Linked To: AK TRANSNEFT OAO).

On June 20, 2017, OFAC blocked the property and interests in property of the following persons pursuant to E.O. 13685, “Blocking Property of Certain Persons and Prohibiting Certain Transactions With Respect to the Crimea Region of Ukraine”:

1. IS BANK, AO (a.k.a. AKTSIONERNOE OBSHCHESTVO KOMMERCHESKI BANK INDUSTRIALNY SBEREGATELNY BANK; f.k.a. CLOSED JOINT STOCK COMPANY COMMERCIAL BANK `INDUSTRIAL SAVINGS BANK'; a.k.a. JOINT-STOCK COMPANY COMMERCIAL BANK `INDUSTRIAL SAVINGS BANK'; a.k.a. JSC CB `IS BANK'), Eldoradovsky per 7, Moscow 125167, Russia; 29/UL, prospect Kirova, Simferopol, Crimea 295011, Ukraine; Building 160, Office 104, Kievskaya Street, Simferopol, Crimea 295493, Ukraine; Building 25, Lenin Street, Kerch, Crimea 298300, Ukraine; alt. SWIFT/BIC RISB RU MM; BIK (RU) 044525349; Registration ID 1027739339715 (Russia); Tax ID No. 7744001673 (Russia); Government Gazette Number 40199908 (Russia) [UKRAINE-EO13685].

2. JOINT STOCK COMMERCIAL BANK RUBLEV (a.k.a. AKTSIONERNOE OBSHCHESTVO KOMMERCHESKI BANK RUBLEV; a.k.a. BANK RUBLEV; a.k.a. JSC CB `RUBLEV'; a.k.a. RUBLEV BANK), Elokhovsky passage, Building 3, p. 2, Metro—Baumanskaya, Moscow 105066, Russia; 12 Sevastopol Street, Simferopol, Crimea, Ukraine; 6 Gogol Street, Sevastopol, Crimea, Ukraine; alt. SWIFT/BIC COUE RU MM; BIK (RU) 044525253; Registration ID 1027700159233 (Russia); Tax ID No. 7744001151 (Russia); Government Gazette Number 40100094 (Russia) [UKRAINE-EO13685].

3. JOINT STOCK COMPANY BLACK SEA BANK OF DEVELOPMENT AND RECONSTRUCTION (a.k.a. AKTSIONERNOE OBSHCHESTVO CHERNOMORSKI BANK RAZVITIYA I REKONSTRUKTSII; a.k.a. BANK CHBRR, AO; f.k.a. BANK CHBRR, PAO; a.k.a. `CHERNOMORSKI BANK RAZVITIYA I REKONSTRUKTSII, OTKRYTOE AKTSIONERNOE OBSHCHESTVO'; a.k.a. JSC `BLACK SEA BANK FOR DEVELOPMENT & RECONSTRUCTION'; f.k.a. OPEN JOINT STOCK COMPANY BLACK SEA DEVELOPMENT AND RECONSTRUCTION BANK), 24 ul. Bolshevistskaya, Simferopol, Crimea 295001, Ukraine; BIK (RU) 043510101; Registration ID 1149102030186 (Russia); Tax ID No. 9102019769 (Russia); Government Gazette Number 00204814 (Russia); License 3527 (Russia) [UKRAINE-EO13685].

4. JOINT-STOCK COMPANY COMMERCIAL BANK NORTH CREDIT (a.k.a. JSC CB NORTH CREDIT; a.k.a. NORTH CREDIT BANK), Building 27, Herzen Street, Vologda, Vologda Oblast 160000, Russia; Building 29a, Zhelyabova Street, Simferopol, Crimea 295011, Ukraine; ul. Gertsena 27, Vologda, Vologodskaya Oblast 160000, Russia; alt. SWIFT/BIC NOCR RU 21; BIK (RU) 041909769; Registration ID 1022900001772 (Russia); Tax ID No. 2901009852 (Russia) [UKRAINE-EO13685].

5. TAATTA, AO (a.k.a. BANK TAATTA; a.k.a. BANK TAATTA AKTSIONERNOE OBSHCHESTVO; a.k.a. JOINT STOCK COMPANY TAATTA BANK; a.k.a. JSC TAATTA BANK), 36 ul. Chepalova, Yakutsk, Sakha (Yakutiya) Resp. 677018, Russia; Bld. 41, Bolshaya Morskaya Street, Sevastopol, Crimea 299011, Ukraine; Bld. 66, Kirova Avenue, Simferopol, Crimea, Ukraine; Bld. 36, Kulakova Street, Sevastopol, Crimea, Ukraine; alt. SWIFT/BIC TAAARU8Y; BIK (RU) 049805709; Registration ID 1021400000380 (Russia); Tax ID No. 1435126628 (Russia); Government Gazette Number 09287233 (Russia); License 1249 (Russia) [UKRAINE-EO13685].

6. VVB, PAO (f.k.a. COMMERCIAL JOINT-STOCK INCORPORATION BANK YAROSLAVICH; f.k.a. KOMMERCHESKI BANK YAROSLAVICH, PAO; a.k.a. PJSC BANK VVB; a.k.a. PUBLIC JOINT-STOCK COMPANY BANK VVB; a.k.a. PUBLICHNOE AKTSIONERNOE OBSHCHESTVO BANK VVB; a.k.a. PUBLICHNOYE JOINT-STOCK COMPANY BANK VVB), 3A ul., 4-ya Bastionnaya, Sevastopol, Crimea 299011, Ukraine; Voronina, 10, Sevastopol, Crimea 299011, Ukraine; 39A Ul. Suvorova, Sevastopol, Crimea, Ukraine; 5 Per. Pionerskiy, Simferopol, Crimea, Ukraine; alt. SWIFT/BIC YARO RU 21; BIK (RU) 046711106; alt. BIK (RU) 043510133 [UKRAINE-EO13685].

7. OBORONLOGISTIKA, OOO (a.k.a. OBORONLOGISTICS LIMITED LIABILITY COMPANY; a.k.a. OBORONLOGISTICS LLC; a.k.a. OBORONLOGISTIKA LLC; a.k.a. OBSHCHESTVO S OGRANICHENNOI OTVETSTVENNOSTYU `OBORONLOGISTIKA'), d. 18 str. 3 prospekt Komsomolski, Moscow 119021, Russia; ul. Goncharnaya, house 28, building 2, Moscow 115172, Russia; Web site Oboronlogistika.ru; Email Address v.boyko@oboronservice.ru; alt. Email Address Info@oboronlogistika.ru; Registration ID 1117746641572 (Russia); Tax ID No. 7718857267 (Russia); Government Gazette Number 30167631 (Russia) [UKRAINE-EO13685].

8. KPSK, OOO (a.k.a. OBSHCHESTVO S OGRANICHENNOI OTVETSTVENNOSTYU `KRYMSKAYA PERVAYA STRAKHOVAYA KOMPANIYA'; a.k.a. OOO `KRYMSKAYA PERVAYA STRAKHOVAYA KOMPANIYA'), 29 ul. Karla Marksa, Simferopol, Crimea 295006, Ukraine; Web site kpsk-ins.ru; Email Address kpsk-ins@yandex.ru; Registration ID 1149102007933 (Russia); Tax ID No. 9102006047 (Russia); Government Gazette Number 00132598 (Russia) [UKRAINE-EO13685].

9. IFDK, ZAO (a.k.a. CLOSED JOINT STOCK COMPANY `IFD KAPITAL'; a.k.a. IFD KAPITAL; a.k.a. IFD KAPITAL GROUP; a.k.a. IFD-CAPITAL; a.k.a. IFD-KAPITAL; a.k.a. ZAKRYTOE AKTSIONERNOE OBSHCHESTVO `IFD KAPITAL'; f.k.a. ZAKRYTOE AKTSIONERNOE OBSHCHESTVO IFD KARITAL), 6 naberezhnaya, Krasnopresnenskaya, Moscow 123100, Russia; Web site www.ifdk.com; Email Address info@ifdk.com; Registration ID 1027703007452 (Russia); Tax ID No. 7703354743 (Russia); Government Gazette Number 59109241 (Russia) [UKRAINE-EO13685].

10. RIVIERA SUNRISE RESORT & SPA (a.k.a. RIVIERA SUNRISE RESORT AND SPA), Lenin St. 2, Alushta, Crimea 29850, Ukraine; Email Address info.alushta@rivierasunrise.com [UKRAINE-EO13685].

11. PLAKSINA, Olga (a.k.a. PLAKSINA, Olga Vladimirovna), Russia; DOB 03 Mar 1974; POB Moscow, Russia; Gender Female (individual) [UKRAINE-EO13685].

Dated: June 23 2017.
Andrea M. Gacki,
Acting Director, Office of Foreign Assets Control.

[FR Doc. 2017-13673 Filed 6-29-17; 8:45 am]

BILLING CODE 4810-AL-P